DEPARTMENT OF COMMERCE

National Oceanic and Atmospheric Administration

RIN 0648-XA569

Gulf of Mexico Fishery Management Council; Public Meeting

AGENCY: Commerce, National Oceanic and Atmospheric Administration (NOAA), National Marine Fisheries Service (NMFS).

ACTION: Council to convene public meeting.

SUMMARY: The Gulf of Mexico Fishery Management Council will convene public hearings on: Amendment 18 to the Fishery Management Plan for Coastal Migratory Pelagic Resources in the Atlantic and Gulf of Mexico and Amendment 32 to the Reef Fish Fishery Management Plan in the Gulf of Mexico.

DATES: The public meetings will be held on August 1, 2011 through August 3, 2011 at seven locations throughout the Gulf of Mexico. The public hearings will begin at 6 p.m. and will conclude no later than 9 p.m. For specific dates see SUPPLEMENTARY INFORMATION.

ADDRESSES: The public meetings will be held at locations listed in the SUPPLEMENTARY INFORMATION.

Council address: Gulf of Mexico Fishery Management Council, 2203 N. Lois Avenue, Suite 1100, Tampa, FL 33607.

FOR FURTHER INFORMATION CONTACT: Dr. Richard Leard, Deputy Executive Director/Senior Fishery Biologist (Amendment 18), Dr. Steven Atran, Population Dynamics Statistician (Amendment 32) at Gulf of Mexico Fishery Management Council; telephone: (813) 348-1630.

SUPPLEMENTARY INFORMATION:

Coastal Migratory Pelagic Resources

The Gulf of Mexico Fishery Management Council will hold public hearings on Amendment 18 to the Fishery Management Plan for Coastal Migratory Pelagic Resources in the Atlantic and Gulf of Mexico Including Environmental Assessment, Regulatory Impact Review, and Regulatory Flexibility Act Analysis. Amendment 18 contains alternatives for actions to set annual catch limits and accountability measures if such limits are exceeded for Gulf group king mackerel, Gulf group Spanish mackerel, and Gulf group cobia. It also contains measures to remove cero, little tunny, dolphin, and bluefish (Gulf) from the fishery management plan; revise the framework procedure; and separate cobia into Atlantic and Gulf migratory groups. Similar measures are being proposed for the Atlantic migratory stocks.

Reef Fish

Amendment 32 to the Reef Fish Fishery Management Plan establishes annual catch limits and annual catch targets for 2012 and 2015 for gag and for 2012 for red grouper. The Amendment also contains actions to: Establish a rebuilding plan for gag; set recreational bag limits, size limits and closed seasons for gag/red grouper in 2012; consider a commercial gag and shallow-water grouper quota adjustment to account for dead discards; make adjustment to multi-use IFQ shares in the grouper individual fishing quota program; reduce the commercial gag size limit; modify the offshore time and areas closures; and revise gag, red grouper, and shallow-water grouper accountability measures.

The Public Hearings will begin at 6 p.m. and conclude at the end of public testimony or no later than 9 p.m. at the following locations:

Monday, August 1, 2011, Amendment 18—Plantation Suites—1909 Hwy 361, Port Aransas, TX 78373, (361) 749-3866; Amendment 18—Courtyard Marriott Gulfport Beachfront Hotel, 1600 East Beach Blvd., Gulfport, MS 39501, (228) 864-4310; Amendment 32—Hyatt Place Ft. Myers at the Forum—2600 Champion Ring Road, Fort Myers, FL 33905, (239) 418-1844.

Tuesday, August 2, 2011, Amendment 18 and Amendment 32—Hilton St. Petersburg Carillon Park—950 Lake Carillon Drive—St. Petersburg, FL 33716—(727) 540-0050; Amendment 18—Fairfield Inn & Suites, 3111 Loop Road, Orange Beach, FL 36561, (251) 543-4444; Amendment 18—Louisiana Department of Wildlife and Fisheries Research Lab, 195 Ludwig Annex, Grand Isle, LA 70358, (985) 787-2163.

Wednesday, August 3, 2011, Amendment 18 and Amendment 32—Boardwalk Beach Resort, 9400 S. Thomas Drive, Panama City Beach, FL 32408, (850) 230-4681.

Copies of the documents can be obtained by calling (813) 348-1630.

Special Accommodations

These meetings are physically accessible to people with disabilities. Requests for sign language interpretation or other auxiliary aids should be directed to Kathy Pereira at the Council (see ADDRESSES) at least 5 working days prior to the meeting.

Dated: July 11, 2011.
Tracey L. Thompson,
Acting Director, Office of Sustainable Fisheries, National Marine Fisheries Service.

[FR Doc. 2011-17789 Filed 7-14-11; 8:45 am]

BILLING CODE 3510-22-P